OFFICE OF PERSONNEL MANAGEMENT

Submission for Review: 3206-0140, Representative Payee Application (RI 20-7) and Information Necessary for a Competency Determination (RI 30-3)

AGENCY: Office of Personnel Management.

ACTION: 30-Day notice and request for comments.

SUMMARY: Retirement Services, Office of Personnel Management (OPM) offers the general public and other federal agencies the opportunity to comment on a revised information collection request (ICR), RI 20-7 [Representative Payee Application] and RI 30-3 [Information for a Competency Determination].

DATES: Comments are encouraged and will be accepted until February 22, 2021.

ADDRESSES: Interested persons are invited to submit written comments on the proposed information collection to the Office of Information and Regulatory Affairs, Office of Management and Budget, 725 17th Street NW, Washington, DC 20503, Attention: Desk Officer for the Office of Personnel Management or sent via electronic mail to: oira_submission@omb.eop.gov or faxed to (202) 395-6974..

FOR FURTHER INFORMATION CONTACT: A copy of this ICR with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 OPM is soliciting comments for this collection. The information collection (OMB No. 3206-0140) was previously published in the Federal Register on April 13, 2020 at 85 FR 20532, allowing for a 60-day public comment period. No comments were received. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Form RI 20-7 is used by the Civil Service Retirement System (CSRS) and the Federal Employees Retirement System (FERS) to collect information from persons who apply to be fiduciaries for annuitants or survivor annuitants who appear to be incapable of handling their own funds or for minor children. RI 30-3 is an enclosure to RI 20-7 and is needed for adult annuitants who are alleged to be incompetent. RI 30-3 collects medical information regarding the annuitant's competency for OPM's use in evaluating the annuitant's condition.

Analysis

Agency: Retirement Operations, Retirement Services, Office of Personnel Management.

Title: Annuity Supplement Earnings Report.

OMB Number: 3206-0140.

Frequency: On occasion.

Affected Public: Individuals or Households.

Number of Respondents: 12,480 [RI 20-7] and 250 [RI 30-3].

Estimated Time per Respondent: 30 minutes [RI 20-7] and 1 hour [RI 30-3].

Total Burden Hours: 6,240 [RI 20-7] and 250 [RI 30-3].

Office of Personnel Management.
Alexys Stanley,
Regulatory Affairs Analyst.

[FR Doc. 2021-01248 Filed 1-19-21; 8:45 am]

BILLING CODE 6325-38-P